DEPARTMENT OF COMMERCE

Foreign-Trade Zones Board

[B-35-2025]

Foreign-Trade Zone (FTZ) 38, Notification of Proposed Production Activity; GE Gas Turbines (Greenville) LLC; (Gas Turbines); Greenville, South Carolina

GE Gas Turbines (Greenville) LLC submitted a notification of proposed production activity to the FTZ Board (the Board) for its facility in Greenville, South Carolina within FTZ 38. The notification conforming to the requirements of the Board's regulations (15 CFR 400.22) was received on June 30, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: gas turbines; fuel nozzles; power nozzles; turbine blades (nickel alloy; ceramic composite); rotor assemblies (titanium alloy; nickel-based alloy; steel); shrouds (stainless steel; ceramic composite); casings (alloy steel; stainless steel; iron); combustion chamber liners of steel; hydraulic engines; centrifuges; and, switchgear assemblies (duty rate ranges from duty-free to 2.7%).

The proposed foreign-status materials/components include: plastic tubing; adhesive decals of polyester; washers (plastic; copper; nickel); plastic o-rings; gaskets (plastic; carbon fiber; graphite; stainless steel); rubber protective dust covers; pipe fittings (rubber; cast of stainless steel; stainless steel; alloy steel; buttwelded steel; aluminum); flange connectors made of rubber; insulating material made of mineral wool fiber; braided seals made of mineral filled aramid-reinforced composite; glass fiber reinforced fasteners (fiber; woven); steel alloy powders; fittings (iron; steel; nickel; buttwelded of stainless steel); piping components (iron; steel); bars (carbon steel; stainless steel); rods (carbon steel; stainless steel); steel angles; plates (nickel alloy; copper); shims (nickel alloy; copper); hot-rolled structural sections; tubes (non-alloy iron; non-alloy steel; stainless steel; nickel); pipes (stainless steel; stainless steel welded); stainless steel hollow bars; stainless steel hollow pipes; stainless steel pipes for high temperature use; stainless steel tubes for high temperature use; circular welded stainless steel pipe for gas turbine heat exchangers and refining applications; circular welded carbon steel pipe for gas turbine condensers and superheaters; circular seamless iron pipe for gas turbine condensers and superheaters; circular welded stainless steel pipe for gas turbine gas processing; threaded gray cast iron conduit sealer female fittings for use in gas turbine conduit systems; flanges (stainless steel; steel; iron); stainless steel threaded couplings; stainless steel threaded elbows and bends; iron pipe 45 degree fittings; threaded pipe schedule 080S of iron; clamps (iron; steel); structural steel gratings for repair and maintenance access; steel cables; self-tapping screws made of stainless steel; threaded fasteners (nonstainless alloy; base metal; carbon steel; stainless steel); nuts (iron; steel; nickel); threaded hardware (iron; steel); locking washers (iron; steel); plain washers (iron; steel); rivets (iron; steel; nickel); pins (iron; steel; nickel; aluminum); support clips (iron; steel); springs (iron; nickel); cast iron mounting brackets; stamped fasteners (iron; steel); forged fasteners (iron; steel); wire holding devices (iron; steel); general-purpose mounting shims made of carbon steel; stranded wire (copper; nickel); copper stators; rings (copper; nickel); nickel alloy sheets; nickel alloy foil; nickel alloy strip; screws (nickel; aluminum); nickel bolts; conduits (iron; steel; nickel); nickel couplings; nickel enclosures; nickel seals; nickel connectors; nickel gears; nickel lockwire; nickel lugs; nickel joints; nickel rotors; nickel spacers; nickel studs; nickel clips; nickel thermocouples; nickel inserts; nickel vanes; aluminum tube fittings; aluminum bearing assemblies; aluminum caps; aluminum fasteners; mounting harnesses; bellows (iron; steel); compensators (iron; steel); expansions (iron; steel); hoses (iron; steel); elbow tubing of noncast stainless steel; self-winding sleeves made of base metal; wear plates of stainless steel with alloy facing; turbine diaphragms made of stainless steel; base plates used for mounting components; anchor bolts for mounting components of stainless steel; alignment shims; vibration dampers of rubber; compressor gas turbine casings; combustor housings; turbine shells of machined steel; exhaust frames of machined metal; rod bearings; friction reducing thrust bearings; fuel nozzles of machined metal nozzle assemblies; flow meters used to measure the flow of liquid; pressure transducers of stainless steel; electrical gas analyzers; control valves; fluid control devices; fuel injection systems; combustion chamber liners of chromium-molybdenum stainless steel; insulation casings; igniters used in gas turbines; power nozzles; rotating wheels of forged nickel alloy; rotating shafts (carbon steel; stainless steel); stators/stator vanes of steel; temperature sensors; shrouds (stainless steel; ceramic composite); casings (alloy steel; stainless steel; iron); chamber pressure sensors; exhaust gas pressure sensors; fuel flow regulators; hydraulic motors; pump diaphragms; hydraulic pumps; submersible pumps; compressor housings; heat exchangers; oil filters; fuel filters; oil separators; fuel separators; engine fluid filters; catalytic converters; air filters; air dryers; pressure valves; flow valves; check valves; stainless steel taps; solenoid valves; compressor vanes of stainless steel; ball bearings; thrust bearings; spherical bearings; bearing shims; transmission shafts; housed bearings; shaft bearings; housings for bearings; parts of bearing assemblies; transmission spacers; transmission rings; transmission mounting parts; machine shims of carbon steel; machine shafts of stainless steel; machine seals of stainless steel; machine joints of stainless steel; mechanical seals of graphite and steel; electric motors; stator vane rings of stainless steel; electronic actuators; spark plugs; heating elements; electric terminals; electric switches; lamp sockets; junction boxes; terminal blocks; connection terminals; cable connectors; cable fittings; cable clamps; cable holders; electrical clips; electrical grounding apparatus; electronic boards; parts of electrical switching devices; electronic measuring devices and parts; electronic instrument parts; electronic conductors; electronic cables of stainless steel; electrical insulators; electrical isolators; insulating fittings; resistance temperature detectors; barometric sensors; temperature sensor protective enclosures; pressure sensors; pressure meters; chemical sensors; vibration sensors; and, measuring devices (duty rate ranges from duty-free to 9.9%). The request indicates that certain materials/components are subject to duties under section 1702(a)(1)(B) of the International Emergency Economic Powers Act (section 1702) or section 301 of the Trade Act of 1974 (section 301), depending on the country of origin. The applicable section 1702 and section 301 decisions require subject merchandise to be admitted to FTZs in privileged foreign (PF) status (19 CFR 146.41). The request also indicates that stud threaded ends are subject to antidumping and countervailing duty (AD/CVD) orders if imported from China. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is August 18, 2025.

A copy of the notification will be available for public inspection in the “Online FTZ Information System” section of the Board's website.

For further information, contact Luke Engan at Luke.Engan@trade.gov.

Dated: July 3, 2025.
Elizabeth Whiteman,
Executive Secretary.

[FR Doc. 2025-12694 Filed 7-7-25; 8:45 am]

BILLING CODE 3510-DS-P